DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than January 3, 2005.

Interested persons are invited to submit written comments regarding the subject matter of the investigations to the Director, Division of Trade Adjustment Assistance, at the address shown below, not later than January 3, 2005.

The petitions filed in this case are available for inspection at the Office of the Director, Division of Trade Adjustment Assistance, Employment and Training Administration, U.S. Department of Labor, Room C-5311, 200 Constitution Avenue, NW., Washington, DC 20210.

Signed at Washington, DC this 14th day of December 2004.
Timothy Sullivan,
Director, Division of Trade Adjustment Assistance.

Appendix
[Petitions Instituted Between 11/15/2004 and 11/26/2004]
TA-W | Subject firm (petitioners) | Location | Date of institution | Date of petition
55,986 | Invista S.a.r.1. (Comp) | Kinston, NC | 11/15/2004 | 11/05/2004
55,987 | Romar Textile Co., Inc. (Comp) | Ellwood City, PA | 11/15/2004 | 11/11/2004
55,988 | Cecil Saydah Co. (Comp) | Los Angeles, CA | 11/15/2004 | 11/10/2004
55,989 | Delta Woodside Industries (Comp) | Wallace, SC | 11/15/2004 | 11/02/2004
55,990 | Eastman House (USWA) | Burlington, IA | 11/15/2004 | 11/12/2004
55,991 | Fruit of the Loom (Comp) | Jamestown, KY | 11/15/2004 | 10/15/2004
55,992 | Elcom Wire Plant (Comp) | El Paso, TX | 11/15/2004 | 11/10/2004
55,993 | Arvin Meritor (UBCJA) | Franklin, IN | 11/15/2004 | 11/05/2004
55,994 | California Micro | Tempe, AZ | 11/15/2004 | 11/10/2004
55,995 | Concocophilips (Wkrs) | Ponca City, OK | 11/15/2004 | 11/02/2004
55,996 | Union Wadding Company (Comp) | Pawtucket, RI | 11/15/2004 | 11/09/2004
55,997 | Celanese Acetate (UNITE) | Narrows, VA | 11/15/2004 | 11/04/2004
55,998 | Meromex USA, Inc. (Comp) | El Paso, TX | 11/15/2004 | 11/08/2004
55,999 | Schneider Mills, Inc. (Comp) | Forest City, NC | 11/15/2004 | 11/12/2004
56,000 | Lyon Workspace Products (USWA) | Montgomery, IL | 11/15/2004 | 11/10/2004
56,001 | Holophane Corp. (IBEW) | Newark, OH | 11/15/2004 | 11/01/2004
56,002 | Taisho Elec. Corp. of America (State) | El Paso, TX | 11/15/2004 | 11/15/2004
56,003 | Chicago Miniature Lamp (Wkrs) | Wynnewood, OK | 11/15/2004 | 11/01/2004
56,004 | Acme Cutting and Sewing (State) | Chatsworth, CA | 11/15/2004 | 11/01/2004
56,005 | LL East, Inc. (Comp) | Vernon, CA | 11/15/2004 | 11/12/2004
56,006 | LaCrosse Footwear (Wkrs) | Claremont, NH | 11/15/2004 | 11/12/2004
56,007 | VF Jeanswear Limited Partnership (Comp) | El Paso, TX | 11/15/2004 | 11/11/2004
56,008 | N.J.L. Coat (Wkrs) | Clifton, NJ | 11/16/2004 | 09/10/2004
56,009 | JVS Fabrics (Comp) | New York, NY | 11/16/2004 | 11/01/2004
56,010 | Milwaukee Electric Tool (Wkrs) | Brookfield, WI | 11/16/2004 | 11/15/2004
56,011 | Eaton Corporation (Wkrs) | Auburn, IN | 11/16/2004 | 10/26/2004
56,012 | NMC Non-Metallic Components (Wkrs) | Cuba City, WI | 11/16/2004 | 11/12/2004
56,013 | Clinton Tube (USA) (Comp) | Plattsburgh, NY | 11/17/2004 | 11/16/2004
56,014 | Oxford Automotive (State) | Troy, MI | 11/17/2004 | 11/15/2004
56,015 | Straits Steel and Wire (Comp) | Greenville, MI | 11/17/2004 | 11/11/2004
56,016 | Keane, Inc. (NPS) | Jacksonville, FL | 11/17/2004 | 11/13/2004
56,017 | Internet d/b/a Ganton (UAW) | Sturtevant, WI | 11/17/2004 | 11/15/2004
56,018 | AlphaTech, Inc. (Comp) | Fletcher, NC | 11/17/2004 | 11/08/2004
56,019 | Millstone Industries, LLC (Comp) | Redmond, OR | 11/17/2004 | 11/11/2004
56,020 | International Textile Group (Comp) | Cordova, NC | 11/17/2004 | 11/09/2004
56,021 | Nippon Metalworking U.S.A., Inc. (Wkrs) | Woodbury, GA | 11/17/2004 | 11/02/2004
56,022 | Impressions Book and Journal Services (Wkrs) | Madison, WI | 11/17/2004 | 11/12/2004
56,023 | GDX North America, Inc. (USWA) | Wabash, IN | 11/17/2004 | 11/12/2004
56,024 | Fedder's (Wkrs) | Effingham, IL | 11/17/2004 | 11/16/2004
56,025 | Rockwell (Comp) | Pomona, CA | 11/17/2004 | 11/16/2004
56,026 | Mayflower Vehicle Systems, Inc. (UAW) | S. Charleston, WV | 11/17/2004 | 11/15/2004
56,027 | Jenn-Tom Hosiery (Comp) | Connelly Spring, NC | 11/17/2004 | 11/16/2004
56,028 | Munters Corporation (State) | Phoenix, AZ | 11/17/2004 | 11/12/2004
56,029 | Underwriters Laboratories, Inc. (Comp) | Research Tri. Pk, NC | 11/17/2004 | 11/18/2004
56,030 | Arista Beaver Brook Circuits (Wkrs) | Bethel, CT | 11/17/2004 | 11/12/2004
56,031 | E-Z-EM, Inc. (Comp) | Westbury, NY | 11/17/2004 | 11/03/2004
56,032 | Toolmasters, Inc. (Comp) | Longmont, CO | 11/17/2004 | 11/16/2004
56,033 | Dura Automotive (Comp) | Brookfield, MO | 11/18/2004 | 11/16/2004
56,034 | Mundy Maintenance Services & Op, LLC (Comp) | Kinston, NC | 11/18/2004 | 11/03/2004
56,035 | Motion Watersports (Wkrs) | Auburn, WA | 11/19/2004 | 11/17/2004
56,036 | Sprint PCS (Wkrs) | Bolingbrook, IL | 11/19/2004 | 11/10/2004
56,037 | Specialty Electronics, Inc. (Comp) | Landrum, SC | 11/19/2004 | 11/12/2004
56,038 | Watermark (Wkrs) | Fruitland, ID | 11/19/2004 | 11/15/2004
56,039 | Whittier Wood Products (Comp) | Eugene, OR | 11/19/2004 | 11/16/2004
56,040 | Solo Cup Company (Comp) | Williamsburg, PA | 11/19/2004 | 11/10/2004
56,041 | Fawn Plastics (Wkrs) | Middlesex, NC | 11/19/2004 | 11/16/2004
56,042 | CPI Card Group (State) | Los Angeles, CA | 11/19/2004 | 11/09/2004
56,043 | Diageo Chateau and Estate Wines (Comp) | Sonoma, CA | 11/19/2004 | 11/10/2004
56,044 | Ametek (NPW) | Troy, OH | 11/19/2004 | 11/10/2004
56,045 | Regency Home Fashions, Inc. (Comp) | Conover, NC | 11/19/2004 | 11/11/2004
56,046 | Burrows Paper Corp. (Wkrs) | Little Falls, NY | 11/19/2004 | 11/08/2004
56,047 | Sitel (Wkrs) | Augusta, GA | 11/19/2004 | 11/12/2004
56,048 | Method Electronic, Inc. (Wkrs) | Carthage, IL | 11/19/2004 | 11/17/2004
56,049 | Black and Decker (Comp) | Fayetteville, NC | 11/19/2004 | 11/18/2004
56,050 | Federal Signal/Leach Company (Comp) | Oshkosh, WI | 11/19/2004 | 11/18/2004
56,051 | Cambria Somerset Authority (NPC) | Johnstown, PA | 11/19/2004 | 11/01/2004
56,052 | Kordziel Industries, Inc. (Comp) | Sparta, MI | 11/19/2004 | 11/05/2004
56,053 | Gilman Engineering and Mfg. (Wkrs) | Janesville, WI | 11/22/2004 | 11/19/2004
56,054 | Brown Manufacturing, Inc. (Wkrs) | Marion, NC | 11/22/2004 | 11/15/2004
56,055 | North Star Steel (State) | Edina, MN | 11/22/2004 | 11/11/2004
56,056 | SET Enterprises (Comp) | Warren, MI | 11/22/2004 | 11/19/2004
56,057 | Quaker Fabric Corp. (Wkrs) | Fall River, MA | 11/22/2004 | 11/18/2004
56,058 | Harrison Publishing Co. (Wkrs) | Asheville, NC | 11/22/2004 | 11/14/2004
56,059 | Louisiana Pacific Corp. (PACE) | Baileyville, ME | 11/22/2004 | 11/18/2004
56,060 | HCP Packaging Co. (State) | Bridgeport, CT | 11/22/2004 | 11/19/2004
56,061 | Sunrise Hosiery of GA, Inc. (Comp) | Lafayette, GA | 11/22/2004 | 11/12/2004
56,062 | Express Personnel (State) | Griffin, GA | 11/22/2004 | 11/22/2004
56,063 | Roller Derby Skate Corp. (Wkrs) | Litchfield, IL | 11/22/2004 | 11/17/2004
56,064 | Boston Scientific (Comp) | Murrieta, CA | 11/22/2004 | 11/15/2004
56,065 | River Vally Contract Mfg., Inc. (State) | Menifee, AR | 11/22/2004 | 11/22/2004
56,066 | Lastra-America Corp. (State) | Danbury, CT | 11/22/2004 | 11/22/2004
56,067 | Alltrista Products (State) | Cloquet, MN | 11/23/2004 | 11/19/2004
56,068 | Metallic Ventures Gold (State) | Hawthorne, NV | 11/23/2004 | 11/15/2004
56,069 | Spectrum Textured Yarns, Inc. (Comp) | Hictory, NC | 11/23/2004 | 11/19/2004
56,070 | Dallas Airmotive (IAM) | Millville, NJ | 11/23/2004 | 11/18/2004
56,071 | Lambert Manufacturing Co., Inc. (Wkrs) | Chillicothe, MO | 11/23/2004 | 11/17/2004
56,072 | Optical Connectivity (State) | Totowa, NJ | 11/23/2004 | 11/19/2004
56,073 | Peake Plastics (State) | Forest Hill, MD | 11/23/2004 | 11/22/2004
56,074 | Klipstand Manufacturing Co., Inc. (State) | Westfield, MA | 11/23/2004 | 11/22/2004
56,075 | Anchor Glass Container (USWA) | Connellsville, PA | 11/23/2004 | 11/16/2004
56,076 | Mastercraft, LLC (Comp) | Cramerton, NC | 11/24/2004 | 11/16/2004
56,077 | EDA Staffing (Wkrs) | E. Greenwich, RI | 11/24/2004 | 11/18/2004
56,078 | Additional Contract Services (Wkrs) | E. Greenwich, RI | 11/24/2004 | 11/18/2004
56,079 | Olsten Professional Staffing (Wkrs) | E. Greenwich, RI | 11/24/2004 | 11/18/2004
56,080 | SanDisk Corp (Comp) | Sunnyvalle, CA | 11/24/2004 | 11/16/2004
56,081 | Starkey Lab, Inc. (Wkrs) | Glencoe, MN | 11/24/2004 | 11/16/2004
56,082 | Cooper Tire and Rubber Co. (USWA) | Clarksdale, MS | 11/24/2004 | 11/23/2004
56,083 | Apex Pattern Co. (Wkrs) | Los Angeles, CA | 11/24/2004 | 11/23/2004
56,084 | Auburn Foundry (GMP) | Auburn, IN | 11/24/2004 | 11/16/2004
56,085 | A and W Screen Printing (Wkrs) | Ephrata, PA | 11/24/2004 | 11/18/2004
56,086 | Sony Electronics (Wkrs) | Bristol, PA | 11/24/2004 | 08/27/2004
56,087 | Delphi Automotive Systems (State) | Anaheim, CA | 11/24/2004 | 01/16/2004
56,088 | Maytag NLP (UAW) | Newton, IA | 11/24/2004 | 11/22/2004
56,089 | Netgear, Inc. (Wkrs) | Santa Clara, CA | 11/24/2004 | 11/12/2004
56,090 | American Falcon Corp. (State) | Auburn, ME | 11/26/2004 | 11/23/2004
56,091 | Eagle-Ottawa Leather Co. (GMP) | Grand Haven, MI | 11/26/2004 | 11/08/2004
56,092 | Oxford Automotive (Wkrs) | Alma, MI | 11/26/2004 | 11/18/2004
56,093 | Hamilton Sundstrand (Comp) | Grand Junction, CO | 11/26/2004 | 11/16/2004

[FR Doc. 04-27975 Filed 12-21-04; 8:45am]

BILLING CODE 4510-30-M